DEPARTMENT OF THE INTERIOR

National Park Service

[NPS-IMR-WUPA-32891; PPIMFLAGS2, PPMPSPD1Z.YM]

Determination of Eligibility for Consideration as Wilderness Areas, Wupatki National Monument, Arizona

AGENCY: National Park Service, Interior

ACTION: Notice of Determination of Wilderness Eligibility for Lands in Wupatki National Monument.

SUMMARY: Pursuant to the Wilderness Act of 1964, and in accordance with National Park Service (NPS) Management Policies (2006), Section 6.2.1, the NPS has completed a Wilderness Eligibility Assessment to determine if lands within Wupatki National Monument (Wupatki or monument) meet criteria indicating eligibility for preservation as wilderness.

ADDRESSES: A map of lands assessed is on file at Wupatki National Monument Headquarters, 6400 U.S. 89, Flagstaff, AZ 86004.

FOR FURTHER INFORMATION CONTACT: Acting Superintendent Kristofer Butcher, Flagstaff Area National Monuments, 6400 U.S. 89, Flagstaff, AZ 86004, Telephone: 928-526-1157 or 205-410-3543, email address: Kristofer_butcher@nps.gov.

SUPPLEMENTARY INFORMATION: Wupatki National Monument has determined that a significant portion of the lands within the monument are eligible for wilderness designation. Areas determined to be eligible for wilderness designation total 34,194 acres or 96.5% of Wupatki's total 35,424 acres, with the remaining 1,230 acres or 3.5% of total monument acreage determined not eligible for wilderness designation.

Eligible wilderness areas at Wupatki National Monument are subdivided into the following areas:

Eligible Wilderness Area 1: 6,284 acres. This area contains outstanding grassland resources with some juniper savanna in the eastern portions. The landscape is dominated by basalt mesas and offers prime habitat for pronghorn antelope. The area is largely undeveloped and retains most of its primeval character. This area is managed to protect pronghorn habitat and sensitive cultural resources. The western-most portion of this area is affected by the presence of Highway 89 but is still eligible to be designated as wilderness.

Eligible Wilderness Area 2: 21,168 acres. Almost the entire area is undeveloped, with few signs of people and one rarely used administrative road (Crack-in-Rock Road). This area generally appears to be affected primarily by natural forces. The area offers a variety of habitats including pristine grassland, juniper savanna, and cold desert scrub, and is bisected by a prominent geologic feature known as the Doney monocline. The monocline contains deeply incised washes including Antelope Wash, and outstanding views of the Painted Desert, Little Colorado River valley to the north and east, and the San Francisco Peaks to the south. Spectacular features found in this area include red formations of Moenkopi sandstone and areas such as Deadman Wash, which extends from well south of the monument around the north side of the San Francisco Peaks, all the way to the Little Colorado River.

Eligible Wilderness Area 3: 1,929 acres. This area surrounds Wupatki National Monument's primary interpretive feature, the Visitor Center, and the housing area. Some development has occurred within this area to support monument operations; however, it is confined to the Wupatki Visitor Center area and on top of the Woodhouse Mesa. One above ground utility line runs to Woodhouse Mesa, however, as the monument strives to become more energy efficient and self-sufficient, it will pursue removing the above ground line. The rest of the area consists of Doney Mountain and Deadman Wash. Although this wilderness area is less than 5,000 acres, this area can be managed as wilderness because the landscape is homogenous with the surrounding eligible wilderness areas but is bisected by the primary road that goes through Wupatki. This area has many locations not affected by modern development and the potential for seclusion exists in this area. The area outside of the administrative zones is undeveloped and is affected primarily by natural forces.

Eligible Wilderness Area 4: 4,813 acres. This area contains outstanding Moenkopi sandstone outcrops and deep washes. The landscape is dominated by basalt mesas and offers prime locations for isolation and quiet. The area is largely undeveloped and retains most of its primeval character except for an interpretive pueblo site with associated parking area and access road (Wukoki Pueblo), a small administrative area used for maintenance activities (New Heiser) and a special use permit residence with associated road access. At the expiration of the special use permit for the residence, the area will be rehabilitated to restore natural conditions.

In accordance with NPS Management Policies (2006), Section 6.2.2, Wupatki National Monument will prepare a wilderness study to determine if any portions of the monument should be recommended for inclusion in the National Wilderness Preservation System as defined in the Wilderness Act of 1964.

Charles F. Sams, III,
Director, National Park Service.

[FR Doc. 2022-15970 Filed 7-25-22; 8:45 am]

BILLING CODE 4312-52-P